DEPARTMENT OF THE INTERIOR

Bureau of Ocean Energy Management

Outer Continental Shelf, Oil and Gas Lease Sales in the Central Gulf of Mexico Planning Area (CPA) and the Western Gulf of Mexico Planning Area (WPA), Beginning With WPA Sale 233 in 2013 and Subsequent Sales Through 2017

AGENCY: Bureau of Ocean Energy Management (BOEM), Interior.

ACTION: Call for Information and Nominations.

SUMMARY: This Call for Information and Nominations (hereinafter referred to as the “Call”) is the initial step in the pre-lease process. The purpose of the Call is to gather information on oil and gas leasing, exploration, and development that might result from Outer Continental Shelf (OCS) oil and gas lease sales, tentatively beginning in the fall of 2013 under the OCS oil and gas leasing program for 2012-2017. Information collected through this process will help BOEM design future sales. BOEM is enhancing the pre-lease planning process, which begins with this Call, by undertaking a series of important steps to increase the transparency of the process and accountability.

DATES: Comments must be received no later than August 8, 2012 at the address specified below.

FOR FURTHER INFORMATION CONTACT: For information on this Call, please contact Mr. Carrol Williams, Bureau of Ocean Energy Management, Gulf of Mexico OCS Region, 1201 Elmwood Park Boulevard, New Orleans, Louisiana 70123-2394, telephone (504) 736-2803.

SUPPLEMENTARY INFORMATION: On March 15, 2011, BOEM published a Call to gather information on a series of Gulf of Mexico oil and gas lease sales scheduled in the OCS Oil and Gas Leasing Program for 2012-2017 (76 FR 14040). The March 2011 Call identified the area under consideration as the majority of the acreage in the CPA and WPA, but that Call specifically excluded acreage in a 1.4 nautical mile (nmi) buffer area in the area formerly known as the Western Gap, north of the continental shelf boundary. This 1.4 nmi buffer area includes acreage in the CPA and WPA along the continental shelf boundary between the United States and Mexico. By treaty with Mexico, this 1.4 nmi buffer area is not available for leasing until 2014.

On February 20, 2012, however, the United States and Mexico signed an Agreement between the United States of America and the United Mexican States Concerning Transboundary Hydrocarbon Reservoirs in the Gulf of Mexico (hereinafter referred to as the “Agreement”). Upon the Agreement's entry into force, the 1.4 nmi buffer area may be available for lease earlier than 2014. As such, this Call is being issued to encompass the acreage identified in the March 2011 Call, as well as approximately 158,584 acres in the portion of the CPA and WPA that may be made available by the Agreement if it enters into force prior to 2014. If this area becomes available for lease, it will be announced in a Notice of Sale.

Call for Information and Nominations

1. Authority

This Call is published pursuant to the OCS Lands Act as amended (43 U.S.C. 1331-1356, hereinafter “OCSLA”), and the regulations issued thereunder (30 CFR part 556).

2. Purpose of Call

The purpose of the Call is to gather information for the following tentatively scheduled OCS Lease Sales in the CPA and WPA.

Lease sale, OCS planning area | Sale year
Sale 233, WPA | 2013
Sale 231, CPA | 2014
Sale 238, WPA | 2014
Sale 235, CPA | 2015
Sale 246, WPA | 2015
Sale 241, CPA | 2016
Sale 248, WPA | 2016
Sale 247, CPA | 2017

BOEM seeks information and nominations on oil and gas leasing, exploration, development, and production within this portion of the CPA and WPA from all interested parties. This early planning and consultation step is important for ensuring that all interests and concerns are communicated to the U.S. Department of the Interior for future decisions in the leasing process pursuant to OCSLA and regulations at 30 CFR part 556.

Final decisions regarding this additional acreage for possible leasing will be made at a later date and in compliance with applicable laws, including all requirements of the National Environmental Policy Act, Coastal Zone Management Act and OCSLA.

3. Description of Area

A Call for the majority of the acreage in the CPA and WPA was issued on March 15, 2011. This Call encompasses that acreage, as well as approximately 158,584 acres in the portion of the CPA and WPA that may be made available by the Agreement, described above, if it enters into force. A map of the full Call area is included below, depicting the acres of the CPA and WPA that may be made available by the Agreement. The map is available without charge from: Bureau of Ocean Energy Management, Public Information Office, 1201 Elmwood Park Boulevard, New Orleans, Louisiana 70123-2394, or telephone: 1-800-200-GULF. It is also available via the BOEM Web site at: http://www.boem.gov/Oil-and-Gas-Energy-Program/Leasing/Regional-Leasing/Gulf-of-Mexico-Region/Call-for-Info-and-Nominations-CPA-WPA-bufferarea.aspx. The CPA/WPA areas are depicted in full on the map available at http://www.boem.gov/uploadedfiles/callmap-2012-2017.pdf.

4. Instructions on Call

Comments must be received no later than 30 days following publication of this document in the Federal Register in envelopes labeled “Comments on the Call for Information and Nominations for Proposed CPA and WPA Lease Sales,” submitted to the Gulf of Mexico Region's Leasing and Financial Responsibility Unit (Attention: Mr. Carrol Williams) at the previously noted address.

The Call map delineates the Call area, all of which has been identified by BOEM as having potential for the discovery of accumulations of oil and gas.

BOEM seeks comments from all interested parties about particular geological, environmental (including natural disasters), biological, archaeological and socioeconomic conditions or conflicts, or other information that might bear upon the potential leasing and development of this area. BOEM also seeks comments on possible conflicts between future OCS oil and gas activities that may result from the proposed lease sale and state Coastal Management Programs (CMPs). If possible, these comments should identify specific CMP policies of concern, the nature of the conflict foreseen, and steps that BOEM could take to avoid or mitigate the potential conflict. Comments may be in terms of broad areas or restricted to particular blocks of concern.

In the Proposed Final OCS Oil & Gas Leasing Program 2012-2017, BOEM established an alternative and mitigation tracking table (the Table), which is designed to track the lineage and treatment of suggestions for inclusion of acreage, spatial exclusions, temporal deferrals, and/or mitigation from the Five-Year Program to the lease sale stage and on to the plan stage. This alternative and mitigation tracking table will allow commenters to see how and where their concerns are considered, while ensuring that a reasonable concern that is not suitable for consideration during one stage will be considered at an appropriate subsequent stage. You can view the alternative and mitigation tracking table at: http://www.boem.gov/Oil-and-Gas-Energy-Program/Leasing/Five-Year-Program/Lease-Sale-Schedule/Alternative-and-Mitigation-Tracking-Table.aspx. Suggestions for deferrals collected during the comment period on this Call will be added to the Table to be tracked through the process.

Additionally, BOEM has created an interactive map through the Multipurpose Marine Cadastre (MMC) Web site for the Gulf of Mexico. You can view the interactive map at: http://www.boem.gov/Oil-and-Gas-Energy-Program/Leasing/Five-Year-Program/Lease-Sale-Schedule/Interactive-Maps.aspx. The MMC is an integrated marine information system that provides a more comprehensive look at geospatial data and ongoing activities and studies occurring in the area being considered. If there is a data layer that you believe should be added for consideration, please provide this information by following the commenting instructions above. If you have questions about the interactive map, please contact Donna Dixon, Leasing Division Chief, at (703) 787-1215.

5. Use of Information From the Call

Information submitted in response to this Call will be used for several purposes. First, comments on possible environmental effects and potential use conflicts will be used in the analysis of environmental conditions in and near the Call area. Comments on environmental and other use conflicts will be used to make a preliminary determination of the potential advantages and disadvantages of oil and gas exploration and development to the region and the Nation. Second, comments may be used in developing lease terms and conditions to ensure environmentally safe offshore operations. Third, comments may be used to assess potential conflicts between offshore oil and gas activities and a state CMP.

Individual indications of interest in areas for mineral leasing are considered to be privileged and proprietary information. To avoid inadvertent release of proprietary information, please mark all documents and every page containing such information with “Confidential—Contains Proprietary Information.” The names of persons or entities submitting comments or indicating interest will be treated by BOEM as information that can be released to the public. When comments are released, individual indications of interest in mineral leasing, trade secrets, commercial or financial information will be treated as confidential and proprietary information that is privileged and not released to the public.

6. Existing Information

BOEM routinely assesses the status of information acquisition efforts and the quality of the information base for potential decisions on a tentatively scheduled lease sale. An extensive environmental studies program has been underway in the Gulf of Mexico since 1973. The emphasis, including continuing studies, has been on “environmental analysis” of biologically sensitive habitats, physical oceanography, ocean-circulation modeling, ecological effects of oil and gas activities, and hurricane impacts on coastal communities and the environment.

You may obtain a complete listing of available study reports and information for ordering copies from the Public Information Office referenced above. You may also order the reports for a fee from the U.S. Department of Commerce, National Technical Information Service, 5285 Port Royal Road, Springfield, Virginia 22161, or telephone (703) 605-6000 or (800) 553-6847. In addition, you may obtain a program status report for continuing studies in this area from the Chief, Office of Environmental Studies (MS 5430), Bureau of Ocean Energy Management, Gulf of Mexico OCS Region, 1201 Elmwood Park Boulevard, New Orleans, Louisiana 70123-2394, or telephone (504) 736-2752, or via the BOEM Web site at: http://www.boem.gov/Environmental-Stewardship/Environmental-Studies/Gulf-of-Mexico-Region/GOMR-Environmental-Studies-Program.aspx.

7. Tentative Schedule

Milestones for Proposed Lease Sale 233 in 2013
Call for Information and Nominations | July 2012.
Comments received on Call | August 2012.
Area Identification Decision | September 2012.
Proposed Notice | 5 months before lease sale.
Final Notice of Sale | 1 month before lease sale.
Tentative Lease Sale Date | Fall 2013 (Lease Sale 233).

Dated: July 3. 2012.
Tommy P. Beaudreau,
Director, Bureau of Ocean Energy Management.

BILLING CODE 4310-MR-P

[FR Doc. 2012-16733 Filed 7-6-12; 8:45 am]

BILLING CODE 4310-MR-C